DEPARTMENT OF ENERGY

Federal Energy Regulatory Commission

[Docket No. RM18-9-000]

Participation of Distributed Energy Resource Aggregations in Markets Operated by Regional Transmission Organizations and Independent System Operators; Notice of Correction in Federal Register of Compliance Deadline

On September 17, 2020, the Commission issued Order No. 2222.¹ Order No. 2222 provides that “each [Regional Transmission Organization or Independent System Operator (RTO/ISO)] must file the tariff changes needed to implement the requirements of this final rule within 270 days of the publication date of this final rule in the Federal Register.” ²

¹ Participation of Distributed Energy Resource Aggregations in Markets Operated by Regional Transmission Organizations and Independent System Operators, Order No. 2222, 172 FERC ¶ 61,247 (2020).

² Id. PP 9, 360.

On October 21, 2020, notice of Order No. 2222 was published in the Federal Register, 85 FR 67094, providing that: “Each RTO/ISO must file the tariff changes needed to implement the requirements of this final rule by September 17, 2021.”

On October 29, 2020, a correction regarding the October 21 notice concerning Order No. 2222 was published in the Federal Register, 85 FR 68450, stating that: “ `September 17, 2021' should read `July 19, 2021'.”

Notice is hereby given that the deadline to submit filings to comply with Order No. 2222 has been corrected and is July 19, 2021.

Dated: October 29, 2020.
Nathaniel J. Davis, Sr.,
Deputy Secretary.

[FR Doc. 2020-24461 Filed 11-3-20; 8:45 am]

BILLING CODE 6717-01-P